DEPARTMENT OF THE INTERIOR

National Park Service

[NPS-WASO-NAGPRA-NPS0037940; PPWOCRADN0-PCU00RP14.R50000]

Notice of Intended Repatriation: Thomas Burke Memorial Washington State Museum, University of Washington, Seattle, WA

AGENCY: National Park Service, Interior.

ACTION: Notice.

SUMMARY: In accordance with the Native American Graves Protection and Repatriation Act (NAGPRA), the Thomas Burke Memorial Washington State Museum (Burke Museum) intends to repatriate a certain cultural item that meets the definition of a sacred object and that has a cultural affiliation with the Indian Tribes or Native Hawaiian organizations in this notice.

DATES: Repatriation of the cultural item in this notice may occur on or after June 20, 2024.

ADDRESSES: Sven Haakanson Jr., Burke Museum, University of Washington, Box 353010, Seattle, WA 98195, telephone (206) 543-3210, email svenh@uw.edu.

SUPPLEMENTARY INFORMATION: This notice is published as part of the National Park Service's administrative responsibilities under NAGPRA. The determinations in this notice are the sole responsibility of the Burke Museum, and additional information on the determinations in this notice, including the results of consultation, can be found in the summary or related records. The National Park Service is not responsible for the determinations in this notice.

Abstract of Information Available

A total of one cultural item has been requested for repatriation. The one sacred object is a wooden dance rattle created by Robert Collier (Burke Accn. 2097, Cat no. 8675). On April 2, 1925, Leslie Spier and E.G. Spier collected the rattle from Jamestown, Clallam County, WA. Recorded provenience information identifies Robert Collier as the creator of the rattle, identified as a Bird Rattle. According to information from the Jamestown S'Klallam Tribe, Robert Collier was born in the late 1870s and recorded on multiple census rolls as S'Klallam. He is descended from S'Klallam parents who lived in Jamestown, and Collier later lived with his family in Washington Harbor (sxʷčkʷíy7ŋ). Collier was sought as a principal informant for Erna Gunther's ethnography fieldwork in the mid-1920s, resulting in the published work, Klallam Ethnography. Collier married twice (Abby Collier and Martha Dick Collier) and has descendants represented in the Jamestown S'Klallam Tribal Families: Hall, Sampson, Lombardi, Collier, Wheeler, Gentry, Adams, and Russell. The Jamestown S'Klallam Tribe has identified this Bird Rattle as a sacred object that is still used in traditional ceremonial practices. The Bird Rattle was tested for pesticide contamination and the results indicated that there is likely hazardous substances present. The Burke Museum provided recommendations for safe handling.

Determinations

The Burke Museum has determined that:

• The one sacred object described in this notice is a specific ceremonial object needed by a traditional Native American religious leader for present-day adherents to practice traditional Native American religion, according to the Native American traditional knowledge of a lineal descendant, Indian Tribe, or Native Hawaiian organization.

• There is a reasonable connection between the cultural item described in this notice and the Jamestown S'Klallam Tribe.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after June 20, 2024. If competing requests for repatriation are received, the Burke Museum must determine the most appropriate requestor prior to repatriation. Requests for joint repatriation of the cultural item are considered a single request and not competing requests. The Burke Museum is responsible for sending a copy of this notice to the Indian Tribes and Native Hawaiian organizations identified in this notice and to any other consulting parties.

Authority: Native American Graves Protection and Repatriation Act, 25 U.S.C. 3004 and the implementing regulations, 43 CFR 10.9.

Dated: May 9, 2024.
Melanie O'Brien,
Manager, National NAGPRA Program.

[FR Doc. 2024-11088 Filed 5-20-24; 8:45 am]

BILLING CODE 4312-52-P